DEPARTMENT OF COMMERCE

National Oceanic and Atmospheric Administration

[RTID 0648-XC211]

North Pacific Fishery Management Council; Public Meeting

AGENCY: National Marine Fisheries Service (NMFS), National Oceanic and Atmospheric Administration (NOAA), Commerce.

ACTION: Notice of public meeting.

SUMMARY: The North Pacific Fishery Management Council (NPFMC) will host the Seventh National Meeting of the Scientific Coordination Subcommittee of the Council Coordination Committee (SCS7). The meeting theme is “Adapting Fisheries Management to a Changing Ecosystem.” The agenda for the SCS7 is available at https://meetings.npfmc.org/Meeting/Details/2945.

DATES: The SCS7 will begin on Monday, August 15, 2022, through Wednesday, August 17, 2022, from 9 a.m. to 5 p.m. Alaska Time.

ADDRESSES:

Meeting address: The meeting will be held at the Harrigan Centennial Hall, Sitka, AK 99835, or listen to the meeting online through the link at https://meetings.npfmc.org/Meeting/Details/2945.

Council address: North Pacific Fishery Management Council, 1007 W 3rd Ave., Anchorage, AK 99501-2252; telephone: (907) 271-2809. Instructions for listening to the meeting are given under Connection Information, below.

FOR FURTHER INFORMATION CONTACT: Diana Evans, Council staff; telephone: (907) 271-2809, email: diana.evans@noaa.gov. For technical support, please contact our Council administrative staff, email: npfmc.admin@noaa.gov.

SUPPLEMENTARY INFORMATION:

Agenda

Monday, August 15, 2022, Through Wednesday, August 17, 2022

The SSC7 agenda will include the following:

(1) Keynote 1: Including ecosystem information in assessments and management advice

(2) Case Study 1: The collapse of snow crab: what happened and what now?

(3) Case Study 2: Using climate data to improve sablefish assessment model projections

(4) Case Study 3: Poor recruitment of reef fishes in the southeast U.S. Atlantic: preliminary findings and implications for management

(5) Keynote 2: Using ecosystem information in the stock assessment and advice process

(6) Case Study 4: Inclusion of ecosystem information in U.S. fish stock assessments: progress toward ecosystem-based fisheries management?

(7) Case Study 5: Using nonstationary stock assessment models to diagnose meaningful ecosystem indicators

(8) Case Study 6: Accounting for red tide mortality in stock assessments and catch projections

(9) Case Study 7: Integrating ecosystem and climate influences on dynamics of New England stocks into stock assessment

(10) Keynote 3: Multiple interacting species and the management challenges they pose

(11) Case Study 8: Multivariate approaches for Ecosystem-Based Fisheries management (EBFM) implementation in the U.S. Caribbean

(12) Case Study 9: Development of harvest control rules for Atlantic herring: an application of Management Strategy Evaluation (MSE) to account for herring's role in the ecosystem

(13) Case Study 10: Does ignoring predation mortality lead to an inability to achieve management goals in Alaska?

(14) Keynote 4: Perspectives on ways complex ecosystem projections can be applied in real-world fisheries management cases

(15) Case Study 11: Blueline tilefish negations between the Mid and South Atlantic Council SSCs

(16) Case Study 12: Toward dynamic harvest allocation rules for shifting species: a case study of three stocks in the Northeast U.S.

(17) Summary of key findings

The agenda is subject to change, and the latest version will be posted at https://meetings.npfmc.org/Meeting/Details/2945 prior to the meeting, along with meeting materials.

The purpose of the SCS7 meeting is for participants to discuss various aspects of addressing Ecosystem-Based Fishery Management (EBFM), including ecosystem indicators, multi-species modeling and addressing distributional shifts in managed stocks. to better inform management decision-making by the eight Regional Fishery Management Councils and NMFS. No management actions will be decided by the participants attending the SCS7 meeting. The participants' role will be the development of findings, which will be captured in proceedings of the meeting. These proceedings will be provided to the Council Coordination Committee and posted on the U.S. Regional Fishery Management Councils' website.

Connection Information

You can listen-only to the meeting online using a computer, tablet, or smart phone, or by phone only. Connection information will be posted online at: https://meetings.npfmc.org/Meeting/Details/2945. Only the audio portion and presentations displayed on the screen at the SCS7 meeting will be broadcast. The audio portions are listen-only; you will be unable to speak to the meeting participants via the broadcast. For technical support please contact our administrative staff, email: npfmc.admin@noaa.gov.

Authority: 16 U.S.C. 1801 et seq.

Dated: July 25, 2022.
Rey Israel Marquez,
Acting Deputy Director, Office of Sustainable Fisheries, National Marine Fisheries Service.

[FR Doc. 2022-16229 Filed 7-27-22; 8:45 am]

BILLING CODE 3510-22-P